Title 3—

The President

Executive Order 13444 of September 12, 2007

Extending Privileges and Immunities to the African Union Mission to the United States

By the authority vested in me as President by the Constitution and the laws of the United States of America, including section 7(a)(2) of the Department of State Authorities Act of 2006 (Public Law 109-472), I hereby extend to the African Union Mission to the United States of America, and to its members, the privileges and immunities enjoyed by diplomatic missions accredited to the United States, and by members of such missions, subject to corresponding conditions and obligations.

This extension of privileges and immunities is not intended to abridge in any respect privileges and immunities that the African Union Mission to the United States of America and its members otherwise may have acquired or may acquire by law.

THE WHITE HOUSE,

September 12, 2007.

[FR Doc. 07-4600

Filed 9-13-07; 9:00 am]

Billing code 3195-01-P